DEPARTMENT OF COMMERCE

National Oceanic and Atmospheric Administration

Notice of Public Hearing and Availability of the Draft Environmental Impact Statement and Draft Management Plan for the Proposed Designation of the He`eia National Estuarine Research Reserve in Hawai`i

AGENCY: Office for Coastal Management (OCM), National Ocean Service (NOS), National Oceanic and Atmospheric Administration (NOAA), Department of Commerce (DOC).

ACTION: Notice of Public Hearing and Availability of Draft Environmental Impact Statement and Draft Management Plan for the proposed designation of the He`eia National Estuarine Research Reserve in Hawai`i.

SUMMARY: Notice is hereby given that, pursuant to the Coastal Zone Management Act, the National Oceanic and Atmospheric Administration (NOAA), Office for Coastal Management (OCM) is announcing a forty-five day public comment period and will hold a public hearing for the purpose of receiving comments on the Draft Environmental Impact Statement and Draft Management Plan (DEIS/DMP) prepared for the proposed designation of the He`eia National Estuarine Research Reserve in Hawai`i. The DMP addresses research, monitoring, education, and stewardship/cultural resource needs for the proposed reserve, and the DEIS analyzes alternatives to the proposed action along with their potential environmental impacts. The National Estuarine Research Reserve System (NERRS) is a federal-state partnership administered by NOAA. The system protects more than 1.3 million acres of estuarine habitat for long-term research, monitoring, education and stewardship throughout the coastal United States. Established by the Coastal Zone Management Act of 1972, as amended, each reserve is managed by a lead state agency or university, with input from local partners. NOAA provides funding and national programmatic guidance.

DATES: NOAA is accepting public comments through 5:00 p.m. (HST), October 17, 2016. In addition, NOAA will also accept public comments, conveyed orally or through submitted written statements, during a public hearing held from 6:00 p.m. to 7:00 p.m. on October 6, 2016, at He`eia State Park, 46-465 Kamehameha Highway, Kāne`ohe, HI 96744. NOAA is soliciting the views of interested persons and organizations on the adequacy of the DEIS/DMP. All relevant comments received at the hearing and during the 45-day public comment period ending 5:00 p.m. (HST), October 17, 2016, will be considered in the preparation of the Final Environmental Impact Statement (FEIS) and Final Management Plan (FMP).

ADDRESSES: Comments may be submitted by any one of the following methods:

• Electronic Submissions: Submit all electronic public comments via the Federal e-Rulemaking Portal. Go to www.regulations.gov/#!docketDetail;D=NOAA-NOS-2016-0114, click the “Comment Now!” icon, complete the required fields and enter or attach your comments.

• Mail: Joelle Gore, Stewardship Division, Office for Coastal Management, National Ocean Service, NOAA, 1305 East West Highway,N/ORM2, Room 10622 Silver Spring, MD 20910. Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible.

FOR FURTHER INFORMATION CONTACT: Jean Tanimoto, Coastal Management Specialist, Policy, Planning, and Communications Division, Office for Coastal Management at (808) 725-5253 or via email at jean.tanimoto@noaa.gov.

Electronic copies of the Draft Environmental Impact Statement and Draft Management Plan may be found on the OCM Web site at http://coast.noaa.gov/czm/compliance/ or may be obtained upon request from coastal.info@noaa.gov.

SUPPLEMENTARY INFORMATION: The requirements of 40 CFR parts 1500-1508 (Council on Environmental Quality (CEQ) regulations to implement the National Environmental Policy Act) apply to the preparation of Environmental Impact Statements. Specifically, 40 CFR 1506.6 requires agencies to provide public notice of the availability of environmental documents. Likewise, the NERRS implementing regulations at 15 CFR 921.13(d) require NOAA to provide notice, in the Federal Register, of the DEIS availability and the public hearing. This notice is part of NOAA's action to comply with these requirements.

Dated: August 23, 2016.
John R. King,
Deputy Director, Office for Coastal Management, National Ocean Service, National Oceanic and Atmospheric Administration.

[FR Doc. 2016-21059 Filed 9-1-16; 8:45 am]

BILLING CODE 3510-08-P